DEPARTMENT OF TRANSPORTATION

Federal Aviation Administration

Second Meeting: RTCA Special Committee 229, 406 MHz Emergency Locator Transmitters (ELTs) Joint With EUROCAE WG-98 Committee

AGENCY: Federal Aviation Administration (FAA), U.S. Department of Transportation (DOT).

ACTION: Second Meeting 406 MHz Emergency Locator Transmitters (ELTs) Joint with EUROCAE WG-98 Committee.

SUMMARY: The FAA is issuing this notice to advise the public of the first meeting of the 406 MHz Emergency Locator Transmitters (ELTs) Joint with EUROCAE WG-98 Committee.

DATES: The meeting will be held September 3-5 from 9:30 a.m.-4:00 p.m. (Europe Summer Time).

ADDRESSES: The meeting will be held CNES, 18 Avenue Edouard Belin 31400 Toulouse, France.

FOR FURTHER INFORMATION CONTACT: The RTCA Secretariat, 1150 18th Street NW., Suite 910, Washington, DC 20036, or by telephone at (202) 833-9339, fax at (202) 833-9434, or Web site at http://www.rtca.org or you may contact Sophie Bousquet, sobousquet@rtca.org, 202-330-0663.

SUPPLEMENTARY INFORMATION: Pursuant to section 10(a) (2) of the Federal Advisory Committee Act (Pub. L. 92-463, 5 U.S.C., App.), notice is hereby given for a meeting of Special Committee 224. The agenda will include the following:

September 3, 2014

• Welcome/Introductions/Administrative Remarks.

• Agenda overview and approval.

• Minutes Washington meeting review and approval.

• Briefing of ICAO and COSPAS-SARSAT activities.

• WG 1 to 4 status and week's plan.

• Other Industry coordination and presentations (if any).

• WG meetings (rest of the day).

September 4, 2014

• WG 1 to 4 meetings.

September 5, 2014

• WGs' reports.

• Action item review.

• Future meeting plans and dates.

• Industry coordination and presentations (if any).

• Other business.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 18, 2014.
Mohannad Dawoud,
Management Analyst, NextGen, Business Operations Group, Federal Aviation Administration.

[FR Doc. 2014-14691 Filed 6-23-14; 8:45 am]

BILLING CODE 4910-13-P